DEPARTMENT OF HOUSING AND URBAN DEVELOPMENT

[Docket No. FR-5499-FA-01]

Announcement of Funding Awards for the Neighborhood Stabilization Program (NSP) Technical Assistance (NSP TA) Fiscal Year (FY) 2011

AGENCY: Office of the Assistant Secretary for Community Planning and Development, HUD.

ACTION: Announcement of funding awards.

SUMMARY: In accordance with section 102(a)(4)(C) of the Department of Housing and Urban Development Reform Act of 1989, this announcement notifies the public of funding decisions made by the Department in a competition for funding under the Notice of Funding Availability (NOFA) for the FY2011 Neighborhood Stabilization—Technical Assistance Program. This announcement contains the names of the awardees and amounts of the awards made available by HUD.

FOR FURTHER INFORMATION CONTACT: Julie Hovden, Director, Technical Assistance Division, Office of Community Planning and Development, 451 Seventh Street SW., Room 7218, Washington, DC 20410-7000; telephone (202) 402-4496 (this is not a toll-free number). Persons with speech or hearing impairments may access this telephone number via TTY by calling the toll-free Federal Information Relay Service during working hours at 800-877-8339. For general information on this and other HUD programs, visit HUD's NSP Resource Exchange at www.hudnsphelp.info, HUD's Web site at www.hud.gov, or call Community Connections at 1-800-998-9999.

SUPPLEMENTARY INFORMATION: The FY 2011 Neighborhood Stabilization Technical Assistance Program was designed to provide assessment tools, technical and capacity building assistance to state government, local government and non-profit recipients of Neighborhood Stabilization Program (NSP) funding to achieve and measureable outcomes through the selection of technical assistance (TA) providers for this program.

The competition was announced in the NSP-TA NOFA published October 17, 2011 (FR-5499-N-01) and closed on November 21, 2011. The NOFA allowed for up to $20 million for Neighborhood Stabilization Program (NSP) Technical Assistance (NSP-TA) for technical assistance and capacity building activities for recipients, including state and local governments and non-profit organizations, receiving federal Neighborhood Stabilization Program funds. Applications were rated and selected for funding on the basis of selection criteria contained in the Notice. For the FY2011 competition, 12 awards totaling $20,000,000 were awarded to 12 distinct technical assistance providers nationwide.

In accordance with section 102(a)(4)(C) of the Department of Housing and Urban Development Reform Act of 1989 (103 Stat. 1987, 42 U.S.C. 3545), the Department is publishing in Appendix A to this document the name of the NSP-TA grantees and the amounts of the awards.

Dated: March 14, 2012.
Clifford D. Taffet,
General Deputy Assistant Secretary for Community Planning and Development.

Appendix A
Recipient | State | Amount
APD Urban Planning Management, LLC | FL | $500,000
Capital Access, Inc | PA | 500,000
Cloudburst Consulting Group | MD | 3,000,000
Corporation for Supportive Housing | NY | 500,000
Dennison Associates, Inc | DC | 1,000,000
Econometrica, Inc | MD | 1,000,000
Enterprise Community Partners, Inc | MD | 3,000,000
ICF International | VA | 3,000,000
Local Initiatives Support Corporation | NY | 3,000,000
Minnesota Housing Partnership | MN | 1,000,000
Training & Development Associates, Inc | NC | 3,000,000
W. Frank Newton, Inc | GA | 500,000
Total |  | 20,000,000

[FR Doc. 2012-6937 Filed 3-21-12; 8:45 am]

BILLING CODE 4210-67-P